DEPARTMENT OF THE TREASURY

Senior Executive Service; Performance Review Boards

AGENCY: Department of the Treasury.

ACTION: Notice of appointments to Performance Review Boards (PRBs).

SUMMARY: This notice announces the appointment of members to the Department of the Treasury's Performance Review Boards (PRBs). The purpose of these Boards are to review and make recommendations concerning proposed performance appraisals, ratings, bonuses and other appropriate personnel actions for incumbents of SES positions in the Department.

DATES: Applicable date: October 22, 2019.

Composition of the PRB: The Boards shall consist of at least three members. In the case of an appraisal of a career appointee, more than half the members shall consist of career appointees. The persons listed below may be selected to serve on one or more PRB within Treasury. This notice is given pursuant to 5 U.S.C. 4314(c)(4).

Names for Federal Register Publication

Top Officials

• David F. Eisner, Assistant Secretary for Management

• Leonard Olijar, Director for the Bureau of Engraving and Printing

• Timothy Gribben, Commissioner for the Bureau of the Fiscal Service

• Jeffrey Tribiano, Deputy Commissioner for Operations Support (IRS)

• Mary G. Ryan, Deputy Administrator for the Alcohol and Tobacco Tax and Trade Bureau (currently serving as Acting Administrator)

• Kenneth Blanco, Director, Financial Crimes Enforcement Network

• Jamal El-Hindi, Deputy Director, Financial Crimes Enforcement Network

• Patricia Greiner, Deputy Director, Chief Administrative Officer, Bureau of Engraving and Printing

• Charlene William, Deputy Director, Chief Operating Officer, Bureau of Engraving and Printing

• Stephen L. Manning, Deputy Commissioner, Bureau of the Fiscal Service

• Matthew J. Miller, Deputy Commissioner (Accounting and Shared Services), Bureau of the Fiscal Service

• Jeffrey J. Schramek, Deputy Commissioner (Financial Services and Operations), Bureau of the Fiscal Service

Departmental Offices

• John M. Farley, Director, Executive Office for Asset Forfeiture

• Michael O. Thomas, Deputy Assistant Secretary for Treasury Operations

• Amy Edwards, Deputy Assistant Secretary for Accounting Policy and Financial Transparency

• Adam Lerrick, Counselor to the Secretary

• Andrew E. Eilts, Deputy Executive Secretary

• David B. Dwyer, Executive Secretary

• Joseph M. Smith, Director of Operations (Scheduling and Advance)

• Daniel Kowalski, Counselor to the Secretary

• Donna Ragucci, Director for the Office of Small and Disadvantaged Business Utilization

• Joseph R. Clark, Senior Advisor to the Deputy Secretary and Counselor to the General Counsel

• Edward D. Hearst Sr, Senior Advisor

• Elizabeth Shortino, Director for International Monetary Policy

• Elizabeth Berry, Deputy Assistant Secretary for Europe and Eurasia

• Andy Baukol, Principal Deputy Assistant Secretary for International Monetary Policy

• Matthew Haarsager, Deputy Assistant Secretary for International Development Finance and Policy

• Robert Kaproth, Deputy Assistant Secretary for South and East Asia

• Michael Kaplan, Deputy Assistant Secretary for Western Hemisphere and South Asia

• William McDonald, Deputy Assistant Secretary for Technical Assistance Policy

• Sharon Yang, Deputy Assistant Secretary for International Financial Markets

• Eric Meyer, Deputy Assistant Secretary for Africa, Middle East and MDB Operations

• Jason R. Orlando, Director, Office of Technical Assistance

• Howard Adler, Deputy Assistant Secretary for Financial Stability Oversight Counsel

• Stephen Ledbetter, Director of Policy

• David Lebryk, Fiscal Assistant Secretary

• Gregory Till, Deputy Assistant Secretary for Fiscal Operations and Policy

• Christopher H. Kubeluis, Director for the Office of Fiscal Projections

• Theodore R. Kowalsky, Director for the Office of Grants and Asset Management

• Walter Kim, Director for the Office of Financial Institutions and Policy

• Brian Peretti, Director for the Office of Cybersecurity and Critical Infrastructure Protection

• Steven E. Seitz, Director for the Office of Federal Insurance Office

• David B. Lacquement, Deputy Assistant Secretary for Cybersecurity and Critical Infrastructure

• Jodie L. Harris, Director for Community Development and Financial Institutions

• Dennis E. Nolan, Deputy Director for Finance and Operations

• Marcia Sigal, Deputy Director for Policy and Programs

• Brian M. Smith, Deputy Assistant Secretary for Federal Finance

• Gary Grippo, Deputy Assistant Secretary for Government Financial Policy

• Peter Phelan, Deputy Assistant Secretary for Capital Markets

• Jeffrey Stout, Director of Federal Program Finance

• Fred Pietrangeli, Director for the Office of Debt Management

• Michael K. Kranbuhl, Principal Deputy Assistant Secretary for Financial Markets

• Daniel J. Harty, Director, Capital Markets

• Melissa Moye, Director for State and Local Finance

• Andrea Gacki, Director for the Office of Foreign Assets Control

• Bradley T. Smith, Deputy Director for the Office of Foreign Assets Control

• Gregory Gatjanis, Associate Director for the Office of Global Targeting

• Lisa M. Palluconi, Associate Director for the Office of Program Policy and Implementation, Office of Foreign Assets Control

• John H. Battle, Associate Director for Resource Management, Office of Foreign Assets Control

• Billy Bradley, Deputy Director, Treasury Executive Office for Asset Forfeiture

• Lawrence Scheinert, Associate Director for the Office of Compliance and Enforcement

• Todd Conklin, Deputy Associate Director for the Office of Global Targeting

• Scott Rembrandt, Deputy Assistant Secretary for the Office of Strategic Policy, Terrorist Financing and Financial Crimes

• Arthur McGlynn, Principal Deputy Assistant Secretary for the Office of Intelligence and Analysis

• Thomas J. Wolverton, Deputy Assistant Secretary for Security and Counterintelligence

• Jill L. Jermano, Director for the Office of Transnational Issues

• Michael Neufeld, Deputy Assistant Secretary for the Support and Technology

• Patrick Conlon, Director for the Office of Economics and Finance

• Everette E. Jordan, Deputy Assistant Secretary for Intelligence Community Integration

• Kimberly J. Pinter, Deputy Assistant Secretary for Legislative Affairs (Tax and Budget)

• Michael D. DiRoma, Deputy Assistant Secretary for Legislative Affairs (International Affairs)

• Andrew Eck, Deputy Assistant Secretary for Legislative Affairs (Terrorism and Financial Intelligence)

• Lauren Nunnally, Deputy Assistant Secretary for Legislative Affairs (Appropriations and Management)

• Jonathan M. Blum, Deputy Assistant Secretary for Legislative Affairs (Banking)

• Frederick Vaughan, Deputy Assistant Secretary for Legislative Affairs (Oversight)

• Devin O'Malley, Principal Deputy Assistant Secretary for Public Affairs

• Seth Unger, Deputy Assistant Secretary for Public Affairs (Terrorism and Financial Intelligence)

• Brian R. Morgenstern, Deputy Assistant Secretary for Public Affairs (Domestic)

• Jonathan S. Jaquette, Director for Receipts Forecasting

• Edith Brashares, Director for Individual Business and International Taxation

• Janet G. McCubbin, Director for the Office of Tax Analysis

• Curtis Carlson, Director for Business Revenue

• Timothy E. Skud, Deputy Assistant Secretary for Tax, Trade and Tariff Policy

• Robert E. Gillette, Director for Economic Modeling and Computer Applications

• Jeffrey Van Hove, Senior Advisor for Tax Policy

• Lafayette G. Harter, Deputy Assistant Secretary for International Affairs

• Ryan Law, Deputy Assistant Secretary for Privacy Transparency and Records

• Robert Mahaffie, Deputy Assistant Secretary for Management and Budget

• Tonya Burton, Director for the Office of Financial Management

• Stephen Cotter, Director, Special Entity Accounting

• William Sessions, Departmental Budget Director

• Carole Y. Banks, Deputy Chief Financial Officer

• J. Trevor Norris, Deputy Assistant Secretary for Human Resources and Chief Human Capital Officer

• Lorraine Cole, Director, Office of Minority and Women Inclusion

• Nancy Ostrowski, Director of DC Pensions

• Eric R. Olson, Deputy Assistant Secretary for Management, Information Systems and CIO

• Antony P. Arcadi, Associate Chief Information Officer for Enterprise Infrastructure Operations

• Francis O'Hearn, Associate Chief Information Officer, IT Strategy, Technology Management and CTO

• Christopher Weaver, Director for the Office of Consumer Policy

Bureau of Engraving and Printing

• Judith Diazmyers, Senior Advisor

• Steven Fisher, Associate Director (Chief Financial Officer)

• Richard Roy Clark, Associate Director (Quality)

• Frank Freeman III, Associate Director (Management)

• Justin D. Drahein, Associate Director (Product Design and Development)

• Harinder Singh, Associate Director, (Chief Information Officer)

Financial Crimes Enforcement Network

• Amy L. Taylor, Associate Director, Technology Solutions and Services/CIO

• Andrea Sharrin, Associate Director, Policy Division

• Peter Bergstrom, Associate Director, Management/CFO

• Thomas Ott, Associate Director, Enforcement Division

• Kenneth L. O'Brien, Deputy Associate Director, Chief Technology Officer

• Matthew R. Stiglitz, Associate Director, Global Investigations Division

• Timothy Ott, Associate Director, Liaison Division

• Ana Tirol, Associate Director, Liaison Division

U.S. Mint

• Matthew Holben, Associate Director for Sales and Marketing/Chief Marketing and Sales Officer

• Kristie L. McNally, Associate Director for Financial Management/CFO

• David Croft, Associate Director for Manufacturing

• Joseph Jankauskas, Associate Director for Information Technology

• Robert Kuryzna, Plant Manager, Philadelphia

• B.B. Craig, Associate Director for Environment, Safety and Health

• Patrick L. Hernandez, Chief Administrative Officer

• Randall Johnson, Plant Manager for Denver

• Jon Marc Landry, Senior Advisor

• Mark S. Teskey, Senior Advisor

Tax and Trade Bureau

• Daniel T. Riordan, Assistant Administrator, HQ Operations

• Cheri Mitchell, Assistant Administrator, Management/CFO

• Nicholas Colucci, Assistant Administrator, Field Operations

• Robert Hughes, Assistant Administrator, Information Resources/CIO

• Elisabeth C. Kann, Assistant Administrator, External Affairs/Chief of Staff

Bureau of Fiscal Service

• Keith Alderson, Director (DMSOC-East)

• Douglas Anderson, Senior Advisor

• Linda C. Chero, Director

• David T. Copenhaver, Assistant Commissioner

• Christina M. Cox, Deputy Assistant Commissioner

• Paul Deuley, Deputy Assistant Commissioner

• Jan P. Draber, Assistant Commissioner

• Peter T. Genova, Deputy Assistant Commissioner

• Joseph Gioeli, Deputy Assistant Commissioner

• Adam H. Goldberg, Executive Architect (Financial Innovation)

• Jason T. Hill, Deputy Assistant Commissioner (Shared Services)

• John B. Hill, Director (Financial Innovation and Transformation)

• Wallace H. Ingram, Director (DMSOC-West)

• Ronda L. Kent, Assistant Commissioner

• Theresa Kohler, Assistant Commissioner

• D. Michael Linder, Assistant Commissioner

• Justin Marsico, Executive Director (Data Transparency Commission Staff)

• Kimberly A. McCoy, Senior Advisor

• Corvelli A. McDaniel, Assistant Commissioner

• Alyssa W. Riedl, Director (Compliance and Reporting Group)

• Vona Susan Robison, Executive Director (Kansas City)

• Tamela Saiko, Deputy Assistant Commissioner

• Lori Santamorena, Executive Director (Government Securities Regulations Staff)

• Marisa Schmader, Deputy Assistant Commissioner

• Dara N. Seaman, Assistant Commissioner

• Thomas T. Vannoy, Deputy Assistant Commissioner

• Daniel J. Vavasour, Assistant Commissioner

• Sandra Paylor Sanders, Director (Collections and Deposits Group)

• Gavin Jackson, Deputy Assistant Commissioner

Effective Date: Membership is effective on the date of this notice.

FOR FURTHER INFORMATION CONTACT:

Julia J. Markham or Kimberly Jackson, Office of Executive Resources, 1500 Pennsylvania Avenue NW, ATTN: 1722 Eye Street, 9th Floor, Washington, DC 20220, Telephone: 202-622-0774

Kimberly Jackson,
Human Resources Specialist, Office of Executive Resources.

[FR Doc. 2019-22920 Filed 10-21-19; 8:45 am]

BILLING CODE 4810-25-P